DEPARTMENT OF ENERGY

10 CFR Part 431

[EERE-2017-BT-TP-0047]

RIN 1904-AE18

Energy Conservation Program: Test Procedures for Small Electric Motors and Electric Motors; Correction

AGENCY: Office of Energy Efficiency and Renewable Energy, Department of Energy.

ACTION: Final rule; correction.

SUMMARY: The U.S. Department of Energy (“DOE”) recently published a final rule amending the test procedures for small electric motors and electric motors. This correction republishes an amendment from that final rule that could not be incorporated into the Code of Federal Regulations (“CFR”) due to an inaccurate amendatory instruction. Neither the error nor the correction in this document affect the substance of the rulemaking or any conclusions reached in support of the final rule.

DATES: Effective Date: February 3, 2021.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-4563. Email: ApplianceStandardsQuestions@ee.doe.gov.

Mr. Michael Kido, U.S. Department of Energy, Office of the General Counsel, GC-33, 1000 Independence Avenue SW, Washington, DC 20585-0121. Telephone: (202) 586-8145. Email: Michael.Kido@hq.doe.gov.

SUPPLEMENTARY INFORMATION: On January 4, 2021, DOE published a final rule amending the test procedures for small electric motors and electric motors. 86 FR 4. This document corrects the regulatory text instruction for appendix B to subpart B of part 431. In FR Doc. 2020-27662 appearing on page 4, in the Federal Register of Monday, January 4, 2021, the following correction is made:

Appendix B to Subpart B of Part 431— Uniform Test Method for Measuring Nominal Full Load Efficiency of Electric Motors [Corrected]

On page 22, in the first column, amendatory instruction 6.e., “Redesignating Sections 4, 4.1, 4.2, 4.3, 4.4, 4.5, 4.6, 4.7, and 4.8 as Sections 3, 3.1, 3.2, 3.4, 3.5, 3.6, 3.7, and 3.8 respectively;” is corrected to read “Redesignating Sections 4, 4.1, 4.2, 4.3, 4.4, 4.5, 4.6, 4.7, and 4.8 as Sections 3, 3.1, 3.2, 3.3, 3.4, 3.5, 3.6, 3.7, and 3.8 respectively;”.

Signing Authority

This document of the Department of Energy was signed on January 8, 2021, by Daniel R Simmons, Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 8, 2021.
Treena V. Garrett,
Federal Register Liaison Officer, U.S. Department of Energy.

[FR Doc. 2021-00510 Filed 1-14-21; 8:45 am]

BILLING CODE 6450-01-P